ENVIRONMENTAL PROTECTION AGENCY

40 CFR Part 52

[EPA-R10-OAR-2015-0323; FRL-9931-16-Region 10]

Approval and Promulgation of Implementation Plans; Oregon: Grants Pass Second 10-Year PM10 Limited Maintenance Plan

AGENCY: Environmental Protection Agency.

ACTION: Direct final rule.

SUMMARY: The Environmental Protection Agency (EPA) is approving a limited maintenance plan submitted by the State of Oregon on April 22, 2015, for the Grants Pass area for particulate matter with an aerodynamic diameter less than or equal to a nominal 10 micrometers (PM10). The plan explains how this area will continue to meet the PM10 National Ambient Air Quality Standard for a second 10-year period through 2025.

DATES: This rule is effective on September 28, 2015, without further notice, unless the EPA receives adverse comment by August 31, 2015. If the EPA receives adverse comment, we will publish a timely withdrawal in the Federal Register informing the public that the rule will not take effect.

ADDRESSES: Submit your comments, identified by Docket ID No. EPA-R10-OAR-2015-0323, by any of the following methods:

• www.regulations.gov: Follow the on-line instructions for submitting comments.

• Email: edmondson.lucy@epa.gov.

• Mail: Lucy Edmondson, EPA Region 10, Office of Air, Waste and Toxics, AWT-150, 1200 Sixth Avenue, Suite 900, Seattle, WA 98101.

• Hand Delivery/Courier: EPA Region 10, 1200 Sixth Avenue, Suite 900, Seattle, WA 98101. Attention: Lucy Edmondson, Office of Air, Waste and Toxics, AWT-150. Such deliveries are only accepted during normal hours of operation, and special arrangements should be made for deliveries of boxed information.

Instructions: Direct your comments to Docket ID No. EPA-R10-OAR-2015-0323. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, is not placed on the Internet and will be publicly available only in hard copy. Publicly available docket materials are available either electronically in www.regulations.gov or in hard copy during normal business hours at the Office of Air, Waste and Toxics, EPA Region 10, 1200 Sixth Avenue, Seattle, WA 98101.

FOR FURTHER INFORMATION CONTACT: Lucy Edmondson (360) 753-9082, edmondson.lucy@epa.gov, or by using the above EPA, Region 10 address.

SUPPLEMENTARY INFORMATION: Throughout this document, wherever “we”, “us” or “our” are used, it is intended to refer to the EPA.

Table of Contents

I. This Action

II. Background

III. Public and Stakeholder Involvement in Rulemaking Process

IV. The Limited Maintenance Plan Option for PM10 Areas

A. Requirements for the Limited Maintenance Plan Option

B. Conformity Under the Limited Maintenance Plan Option

V. Review of the State's Submittal

A. Has the State demonstrated that Grants Pass qualifies for the limited maintenance plan option?

B. Does the State have an approved attainment emissions inventory?

C. Does the limited Maintenance plan include an assurance of continued operation of an appropriate EPA-approved air quality monitoring network, in accordance with 40 CFR part 58?

D. Does the plan meet the Clean Air Act requirements for contingency provisions?

E. Has the State met conformity requirements?

VI. Oregon Notice Provision

VII. Statutory and Executive Order Reviews

I. This Action

The EPA is approving the limited maintenance plan submitted by the State of Oregon (the State) on April 22, 2015, for the Grants Pass Urban Growth Boundary. The plan addresses maintenance of the PM10 National Ambient Air Quality Standard for a second 10-year period through 2025.

II. Background

The EPA identified the Grants Pass, Oregon, Urban Growth Boundary as a “Group I” area of concern due to measured violations of the newly promulgated 24-hour PM10 National Ambient Air Quality Standard (NAAQS) on August 7, 1987 (52 FR 29383). On November 15, 1990, the Clean Air Act (CAA) Amendments under section 107(d)(4)(B), designated Grants Pass Group I area as nonattainment for PM10 by operation of law. The EPA published a Federal Register document announcing all areas designated nonattainment for PM10 on March 15, 1991 (56 FR 11101). The Oregon Department of Environmental Quality (ODEQ) worked with the community of Grants Pass to develop a plan for attainment of the PM10 NAAQS. Control measures focused on reducing smoke emissions with PM10 control measures for wood stoves, open forestry burning, as well as industrial growth controls and other strategies. The EPA proposed approval of the plan on March 10, 1993 (58 FR 13230), and approved it on December 17, 1993 (58 FR 65934). On November 5, 1999, Oregon submitted a complete rule renumbering and relabeling package to the EPA for approval into the SIP. On January 22, 2003, the EPA approved the recodified version of Oregon's rules to remove and replace the outdated numbering system (68 FR 2891). The EPA approved ODEQ's maintenance plan to ensure continued compliance with the PM10 NAAQS for ten years on October 27, 2003 (68 FR 61111).

In addition to approving ODEQ's maintenance plan for the area, the EPA also approved ODEQ's request to redesignate the Grants Pass nonattainment area to attainment on October 27, 2003 (68 FR 61111). The purpose of the submitted limited maintenance plan is to fulfill the second 10-year planning requirement of CAA section 175A(b) to ensure compliance through 2025.

III. Public and Stakeholder Involvement in Rulemaking Process

Section 110(a)(2) of the CAA requires that each SIP revision offer a reasonable opportunity for notice and public hearing. This must occur prior to the revision being submitted by the State to the EPA. The State provided notice and an opportunity for public comment from December 16, 2014 until January 26, 2015 with no comments received. ODEQ also held a public hearing on January 22, 2015 in Grants Pass. This SIP revision was submitted by the Governor's designee and was received by the EPA on April 22, 2015. The EPA evaluated ODEQ's submittal and determined that the State met the requirements for reasonable notice and public hearing under section 110(a)(2) of the CAA.

IV. The Limited Maintenance Plan Option for PM10 Areas

A. Requirements for the Limited Maintenance Plan Option

On August 9, 2001, the EPA issued guidance on streamlined maintenance plan provisions for certain moderate PM10 nonattainment areas (Memo from Lydia Wegman, Director, Air Quality Standards and Strategies Division, entitled “Limited Maintenance Plan Option for Moderate PM10 Nonattainment Areas” (limited maintenance plan option memo). The limited maintenance plan option memo contains a statistical demonstration that areas meeting certain air quality criteria will, with a high degree of probability, maintain the standard ten years into the future. Thus, the EPA provided the maintenance demonstration for areas meeting the criteria outlined in the memo. It follows that future year emission inventories for these areas, and some of the standard analyses to determine transportation conformity with the SIP, are no longer necessary.

To qualify for the limited maintenance plan option, the State must demonstrate the area meets the criteria described below. First, the area should have attained the PM10 NAAQS. Second, the most recent five years of air quality data at all monitors in the area, called the 24-hour average design value, should be at or below 98 µg/m³. Third, the State should expect only limited growth in on-road motor vehicle PM10 emissions (including fugitive dust) and should have passed a motor vehicle regional emissions analysis test. Lastly, the memo identifies core provisions that must be included in all limited maintenance plans. These provisions include an attainment year emissions inventory, assurance of continued operation of an EPA-approved air quality monitoring network, and contingency provisions.

B. Conformity Under the Limited Maintenance Plan Option

The transportation conformity rule and the general conformity rule (40 CFR parts 51 and 93) apply to nonattainment areas and areas covered by an approved maintenance plan. Under either conformity rule, an acceptable method of demonstrating a Federal action conforms to the applicable SIP is to demonstrate that expected emissions from the planned action are consistent with the emissions budget for the area.

While qualification for the limited maintenance plan option does not exempt an area from the need to affirm conformity, conformity may be demonstrated without submitting an emissions budget. Under the limited maintenance plan option, emissions budgets are treated as essentially not constraining for the length of the maintenance period because it is unreasonable to expect that the qualifying areas would experience so much growth in the period that a violation of the PM10 NAAQS would result. For transportation conformity purposes, the EPA would conclude that emissions in these areas need not be capped for the maintenance period and therefore a regional emissions analysis would not be required. Similarly, Federal actions subject to the general conformity rule could be considered to satisfy the “budget test” specified in 40 CFR 93.158(a)(5)(i)(A) for the same reasons that the budgets are essentially considered to be unlimited.

V. Review of the State's Submittal

A. Has the State demonstrated that Grants Pass qualifies for the limited maintenance plan option?

As discussed above, the limited maintenance plan option memo outlines the requirements for an area to qualify. First, the area should be attaining the NAAQS. The EPA determined the Grants Pass area attained the PM10 NAAQS based on monitoring data from 1988 through 1990 and approved the State's maintenance plan and request to redesignate the area from nonattainment to attainment on October 27, 2003 (68 FR 61111). The area has been in continued compliance with the PM10 NAAQS since that time.

Second, the average design value for the past five years of monitoring data must be at or below the critical design value of 98 μg/m³ for the 24-hour PM10 NAAQS. The critical design value is a margin of safety in which an area has a one in ten probability of exceeding the NAAQS. Using the most recently available Federal Reference Method (FRM) monitoring data for the years 2004-2008, the State's analysis demonstrated that Grants Pass average design value was 49 μg/m³, well below the 98 μg/m³ threshold. An FRM monitor is one that has been approved by the EPA under 40 CFR part 58 to measure compliance with the NAAQS. As discussed later in this proposal, ODEQ also calculated average design values using a linear regression analysis technique for the period 2009 to 2013. This more recent monitoring data shows that PM10 levels continue to be well below the standard with an average design value of 49 μg/m³. The EPA reviewed the data provided by ODEQ and finds that Grants Pass meets the design value criteria outlined in the limited maintenance plan option memo.

Third, the area must meet the motor vehicle regional emissions analysis test described in attachment B of the limited maintenance plan option memo. ODEQ submitted an analysis showing that growth in on-road mobile PM10 emissions sources was minimal and would not threaten the assumption of maintenance that underlies the limited maintenance plan policy. Using the EPA's methodology, ODEQ calculated a regional emissions analysis margin of safety of 52 μg/m³, easily meeting the threshold of 98 μg/m³. The EPA reviewed the calculations in the State's limited maintenance plan submittal and concurs with this conclusion.

Lastly, the limited maintenance plan option memo requires all controls relied on to demonstrate attainment remain in place for the area to qualify. The area's first 10-year maintenance plan relied on measures addressing residential wood combustion, open burning, road dust from motor vehicles and a major new source review program for industry. EPA approved the rules into the SIP on October 27, 2003 (68 FR 61111).

As described above, Grants Pass meets the qualification criteria set forth in the limited maintenance plan option memo. Under the limited maintenance plan option, the State will be expected to determine on an annual basis that the criteria are still being met. If the State determines that the limited maintenance plan criteria are not being met, it should take action to reduce PM10 concentrations enough to requalify. One possible approach the State could take is to implement contingency measures. Section V. I. provides a description of contingency provisions included as part of the limited maintenance plan submittal.

B. Does the State have an approved attainment emissions inventory?

Pursuant to the limited maintenance plan option memo, the State's approved attainment plan should include an emissions inventory which can be used to demonstrate attainment of the NAAQS. The inventory should represent emissions during the same five-year period associated with air quality data used to determine whether the area meets the applicability requirements of the limited maintenance plan option.

ODEQ's Grants Pass limited maintenance plan submittal includes an emissions inventory based on EPA's 2011 National Emissions Inventory (NEI) data for Josephine County. The 2011 base year represents the most recent emissions inventory data available and is consistent with the data used to determine applicability of the limited maintenance plan option. This approach is also consistent with the 1993 emission inventory developed for the first maintenance plan. Historically, exceedances of the 24-hr PM10 standard in Grants Pass have occurred during the winter months, between November 1 and the end of February. As such, in addition to annual emissions, typical season day and worst-case season day emissions are included in the inventory. The term “worst-case day” describes the maximum activity/emissions that have occurred or could occur on a season day, for each emissions source. Worst-case day emissions are summed for all sources/categories, i.e. assumed to occur on the same day. This assumption is the basis for what would be needed to cause an exceedance of the 24-hr standard. The unit of measure for annual emissions is in tons per year (tpy), while the unit of measure for season day emissions is in pounds per day (lb/day). In addition, the county-wide emissions inventory data was spatially allocated to the Grants Pass Urban Growth Boundary, and to buffers around the boundary or monitor, depending on emissions category.

The submitted emissions inventory included the following categories: permitted point sources, area sources (including open burning, small stationary fossil fuel combustion, residential wood combustion, wildfires and prescribed burning, fugitive dust), nonroad (aircraft and airport related, locomotives, marine vessels, nonroad vehicles and equipment), and onroad mobile (exhaust/brake/tire, re-entrained road dust). The EPA has reviewed the emissions inventory data and methodology and finds that the data support ODEQ's conclusion that the control measures contained in the original attainment plan will continue to protect and maintain the PM10 NAAQS.

C. Does the limited maintenance plan include an assurance of continued operation of an appropriate EPA-approved air quality monitoring network, in accordance with 40 CFR Part 58?

The state of Oregon began monitoring in the Grants Pass area in 1987, with many changes to the monitoring technology and requirements since. From 2006 through 2008, the State collocated a PM2.5 monitor with the existing PM10 Federal Reference Method (FRM) monitor to establish correlation data and confirm that PM10 levels could be accurately predicted using PM2.5 concentrations for the areas. Due to the high level of correlation between the PM2.5 and PM10 monitors, ODEQ developed a report on their findings and asserted that PM2.5 monitoring was an accurate predictor of PM10 levels for purposes of determining continued maintenance of the PM10 standard in Grants Pass, and asked to discontinue the PM10 monitor. EPA approved this request in the Annual Network Plan Approval letter, dated January 6, 2012. Both the ODEQ report and the EPA approval letter are included in the materials of this docket.

A full description of the correlation data and the estimation model is included in the State's submittal. The EPA is approving the use of PM2.5 monitoring data to estimate PM10 concentrations for the second 10-year maintenance plan period in Grants Pass and finds that it meets the relevant requirements at 40 CFR 58.14(c). This estimation method is a reproducible approach to representing air quality in the area, and the area continues to meet the applicable Appendix D requirements evaluated as part of the annual network approval process.

In order to continue to qualify for the limited maintenance plan option, the State must calculate the PM10 design value estimate annually from PM2.5 monitoring data to confirm the area continues to meet the PM10 NAAQS.

D. Does the plan meet the Clean Air Act requirements for contingency provisions?

CAA section 175A states that a maintenance plan must include contingency provisions, as necessary, to ensure prompt correction of any violation of the NAAQS which may occur after redesignation of the area to attainment. The first Grants Pass maintenance plan contained contingency measures that would be implemented under two scenarios—if the official PM10 monitor registers a value of 120 μg/m³ or higher, or if a violation of the 24-hr PM10 standard were to occur. These two contingency scenarios are continued under the limited maintenance plan.

E. Has the State met conformity requirements?

(1) Transportation Conformity

Under the limited maintenance plan option, emissions budgets are treated as essentially not constraining for the maintenance period because it is unreasonable to expect that qualifying areas would experience so much growth in that period that a NAAQS violation would result. While areas with maintenance plans approved under the limited maintenance plan option are not subject to the budget test, the areas remain subject to the other transportation conformity requirements of 40 CFR part 93, subpart A. Thus, the metropolitan planning organization (MPO) in the area or the State must document and ensure that:

(a) Transportation plans and projects provide for timely implementation of SIP transportation control measures (TCMs) in accordance with 40 CFR 93.113;

(b) transportation plans and projects comply with the fiscal constraint element as set forth in 40 CFR 93.108;

(c) the MPO's interagency consultation procedures meet the applicable requirements of 40 CFR 93.105;

(d) conformity of transportation plans is determined no less frequently than every three years, and conformity of plan amendments and transportation projects is demonstrated in accordance with the timing requirements specified in 40 CFR 93.104;

(e) the latest planning assumptions and emissions model are used as set forth in 40 CFR 93.110 and 40 CFR 93.111;

(f) projects do not cause or contribute to any new localized carbon monoxide or particulate matter violations, in accordance with procedures specified in 40 CFR 93.123; and

(g) project sponsors and/or operators provide written commitments as specified in 40 CFR 93.125.

In the June 24, 2015 adequacy finding for the Grants Pass PM10 limited maintenance plan, EPA determined that Grants Pass met the criteria to be exempt from regional emissions analysis for PM10. However, other transportation conformity requirements such as consultation, transportation control measures, and project level conformity requirements would continue to apply to the area. With approval of the LMP, the area continues to be exempt from performing a regional emissions analysis but must meet project-level conformity analyses as well as the transportation conformity criteria mentioned above.

Upon approval of the Grants Pass PM10 limited maintenance plan, the area is exempt from performing a regional emissions analysis, but must meet project-level conformity analyses as well as the transportation conformity criteria mentioned above.

(2) General Conformity

For Federal actions required to address the specific requirements of the general conformity rule, one set of requirements applies particularly to ensuring that emissions from the action will not cause or contribute to new violations of the NAAQS, exacerbate current violations, or delay timely attainment. One way that this requirement can be met is to demonstrate that the total of direct and indirect emissions from the action (or portion thereof) is determined and documented by the state agency primarily responsible for the applicable SIP to result in a level of emissions which, together with all other emissions in the nonattainment area, would not exceed the emissions budgets specified in the applicable SIP (see 40 CFR 93.158(a)(5)(i)(A)).

The decision about whether to include specific allocations of allowable emissions increases to sources is one made by the State air quality agencies. These emissions budgets are different than those used in transportation conformity. Emissions budgets in transportation conformity are required to limit and restrain emissions. Emissions budgets in general conformity allow increases in emissions up to specified levels. The State has not chosen to include specific emissions allocations for Federal projects that would be subject to the provisions of general conformity.

VI. Oregon Notice Provision

Oregon Revised Statute 468.126, prohibits ODEQ from imposing a penalty for violation of an air, water or solid waste permit, unless the source has been provided five days advanced written notice of the violation, and has not come into compliance or submitted a compliance schedule within that five-day period. By its terms, the statute does not apply to Oregon's Title V program, or to any program if application of the notice provision would disqualify the program from Federal delegation. Oregon has previously confirmed that, because application of the notice provision would preclude EPA approval of the Oregon SIP, no advance notice is required for violation of SIP requirements.

VII. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 28, 2015. Filing a petition for reconsideration by the Administrator of this final rule does not affect the finality of this action for the purposes of judicial review, nor does it extend the time within which a petition for judicial review may be filed, and shall not postpone the effectiveness of such rule or action. Parties with objections to this direct final rule are encouraged to file a comment in response to the parallel notice of proposed rulemaking for this action published in the proposed rules section of the Federal Register, rather than file an immediate petition for judicial review of this direct final rule, so that the EPA can withdraw this direct final rule and address the comment in the proposed rulemaking. This action may not be challenged later in proceedings to enforce its requirements. (See section 307(b)(2).)

List of Subjects in 40 CFR Part 52

Environmental protection, Air pollution control, Incorporation by reference, Particulate matter, Reporting and recordkeeping requirements.

Authority: 42 U.S.C. 7401 et seq.

Dated: July 8, 2015.
Dennis J. McLerran,
Regional Administrator, Region 10.

40 CFR part 52 is amended as follows:

PART 52—APPROVAL AND PROMULGATION OF IMPLEMENTATION PLANS

1. The authority citation for part 52 continues to read as follows:

Authority: 42 U.S.C. 7401 et seq.

Subpart MM—Oregon

2. In § 52.1970, paragraph (e), the table entitled “State of Oregon Air Quality Control Program” is amended by adding a new entry for “Section 4” to read as follows:

§ 52.1970 Identification of plan.

* * * * *

(e) * * *

State of Oregon Air Quality Control Program
SIP citation | Title/subject | State effective date | EPA approval date | Explanations
* * * * * * *
Section 4 | Grants Pass Second 10-Year PM10 Limited Maintenance Plan | 4/16/2015 | 7/30/2015 [Insert Federal Register citation]
* * * * * * *

* * * * *

[FR Doc. 2015-18354 Filed 7-29-15; 8:45 am]

BILLING CODE 6560-50-P